DEPARTMENT OF LABOR

Employment and Training Administration

Agency Information Collection Activities; Submission for OMB Review; Comment Request; Trade Adjustment Assistance (TAA) Efforts To Improve Outcomes; Correction

ACTION: Notice; correction.

SUMMARY: The Department of Labor's (DOL's) Employment and Training Administration (ETA) published a document in the Federal Register of September 25, 2019, soliciting public comments on the Trade Adjustment Assistance (TAA) Efforts to Improve Outcomes Information Collection Request (84 FR 50475). The document contained an incorrect date by which written comments must be received.

FOR FURTHER INFORMATION CONTACT: Robert Hoekstra by telephone at 202-693-3522 (this is not a toll-free number), or by email at hoekstra.robert@dol.gov.

Correction

In the Federal Register of September 25, 2019, in FR Doc. 2019-20743 on page 50475 (84 FR 50475) in the second column, correct the DATES caption to read:

DATES: Consideration will be given to all written comments received by November 24, 2019.

Dated: October 15, 2019.
John Pallasch,
Assistant Secretary for Employment and Training.

[FR Doc. 2019-23622 Filed 10-25-19; 8:45 am]

BILLING CODE 4510-FN-P